SECURITIES AND EXCHANGE COMMISSION

[Release No. 34-77976; File No. SR-NYSE-2016-11]

Self-Regulatory Organizations; New York Stock Exchange LLC; Notice of Designation of Longer Period for Commission Action on a Proposed Rule Change, as Modified by Amendment No. 1, To Establish Certain End User Fees, Amend the Definition of Affiliate, and Amend the Co-Location Section of the Price List To Reflect the Changes

June 2, 2016.

On April 4, 2016, New York Stock Exchange LLC (“NYSE” or the “Exchange”) filed with the Securities and Exchange Commission (“Commission”), pursuant to Section 19(b)(1) of the Securities Exchange Act of 1934 (“Act”) ¹ and Rule 19b-4 thereunder,² a proposed rule change to establish fees relating to certain end users, amend the definition of Affiliate, and amend the co-location section of the Price List to reflect the changes. The Commission published the proposed rule change for comment in the Federal Register on April 22, 2016.³ On April 29, 2016, the Exchange filed Amendment No. 1 to the proposed rule change.⁴ The Commission received two comment letters on the proposed rule change.⁵

¹ 15 U.S.C. 78s(b)(1).

² 17 CFR 240.19b-4.

³ See Securities Exchange Act Release No. 34-77642 (April 18, 2016), 81 FR 23786 (“Notice”).

⁴ Amendment No. 1 made technical changes relating to the General Notes numbering and references in the Co-location section of the Price List.

⁵ See Letter from Michael J. Friedman, General Counsel and CCO, Trillium to Brent J. Fields, Secretary, Commission, dated May 13, 2016; see also Letter from Eero Pikat to the Commission, dated May 13, 2016.

Section 19(b)(2) of the Act ⁶ provides that, within 45 days of the publication of the notice of the filing of a proposed rule change, or within such longer period up to 90 days as the Commission may designate if it finds such longer period to be appropriate and publishes its reasons for so finding or as to which the self-regulatory organization consents, the Commission shall approve the proposed rule change, disapprove the proposed rule change, or institute proceedings to determine whether the proposed rule change should be disapproved. The Commission is extending this 45-day time period.

⁶ 15 U.S.C. 78s(b)(2).

The Commission finds that it is appropriate to designate a longer period within which to take action on the proposed rule change so that it has sufficient time to consider the proposed rule change. Accordingly, the Commission, pursuant to Section 19(b)(2) of the Act,⁷ designates July 21, 2016, as the date by which the Commission should approve, disapprove, or institute proceedings to determine whether to disapprove the proposed rule change (File No. SR-NYSE-2016-11), as modified by Amendment No. 1.

⁷ Id.

For the Commission, by the Division of Trading and Markets, pursuant to delegated authority.⁸
⁸ 17 CFR 200.30-3(a)(12).
Brent J. Fields,
Secretary.

[FR Doc. 2016-13474 Filed 6-7-16; 8:45 am]

BILLING CODE 8011-01-P